DEPARTMENT OF TRANSPORTATION

Federal Aviation Administration

14 CFR Part 39

[Docket No. FAA-2005-20025; Directorate Identifier 2004-NM-208-AD]

RIN 2120-AA64

Airworthiness Directives; Airbus Model A330, A340-200, and A340-300 Series Airplanes

AGENCY: Federal Aviation Administration (FAA), DOT.

ACTION: Notice of proposed rulemaking (NPRM).

SUMMARY: The FAA proposes to adopt a new airworthiness directive (AD) for all Airbus Model A330, A340-200, and A340-300 series airplanes. This proposed AD would require repetitive inspections of a certain bracket that attaches the flight deck instrument panel to the airplane structure, replacement of the bracket with a new, improved bracket, and related investigative and corrective actions if necessary. This proposed AD is prompted by reports of cracking of a certain bracket that attaches the flight deck instrument panel to the airplane structure. We are proposing this AD to detect and correct a cracked bracket. Failure of this bracket, combined with failure of the horizontal beam, could result in collapse of the left part of the flight deck instrument panel, and consequent reduced controllability of the airplane.

DATES: We must receive comments on this proposed AD by February 11, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Belonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-20025; the directorate identifier for this docket is 2004-NM-208-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-20025; Directorate Identifier 2004-NM-208-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.) You can review the DOT's complete Privacy Act Statement in the Federal Register published on April 11, 2000 (65 FR 19477-78), or you can visit http://dms.dot.gov.

Examining the Docket

You can examine the AD docket on the Internet at http://dms.dot.go, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Génénrale de l'Aviation Civile (DGAC), which is the airworthiness authority for France, notified us that an unsafe condition may exist on all Airbus Model A330, A340-200, and A340-300 series airplanes. The DGAC advises that a certain bracket, one of eight parts that attaches the flight deck instrument panel to airplane structure, has been found cracked on several airplanes. In one case, the bracket was completely broken. The cracking has been attributed to tightening of the bracket during assembly, combined with further effects of differential pressure and flight loads. Failure of the bracket cannot be detected without an inspection. If the horizontal beam also fails, failure of this bracket could lead to collapse of the left part of the flight deck instrument panel, and consequent reduced controllability of the airplane.

Relevant Service Information

Airbus has issued Service Bulletins A330-25-3227 and A340-25-4230, both including Appendix 01, both dated June 17, 2004. The service bulletins describe procedures for performing repetitive detailed visual inspections of a certain bracket that attaches the flight deck instrument panel to airplane structure, and replacing the bracket with a new, improved bracket if necessary. If both flanges of the bracket are cracked, the service bulletin recommends contacting Airbus for further action. The DGAC mandated the service information and issued French airworthiness directives F-2004-140 and F-2004-141, both dated August 18, 2004, to ensure the continued airworthiness of these airplanes in France.

FAA's Determination and Requirement of the Proposed AD

These airplanes models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously, except as discussed under “Differences Among the Proposed AD, the French Airworthiness Directives, and the Service Information.” The proposed AD would also require sending the inspection results for any cracked bracket to Airbus.

Differences Among the Proposed AD, the French Airworthiness Directives, and the Service Information

If you find both flanges of a subject bracket broken, the service information and French airworthiness directives F-2004-140 and F-2004-141 instruct you to contact Airbus. This proposed AD would require that, if you find both flanges of a bracket broken, before further flight, you replace the bracket and perform any applicable related investigative and corrective actions in accordance with a method approved by the FAA or the DGAC (or its delegated agent). These related investigative and corrective actions may include inspections for damage to surrounding structure caused by the broken bracket, and corrective actions for any damage that is found.

For Model A330 series airplanes, Airbus Service Bulletins A330-25-3227 and French airworthiness directive F-2004-140 specify an initial inspection threshold of 16,500 total flight cycles. This proposed AD would require you to perform the initial inspection prior to the accumulation of 16,500 total flight cycles or within 60 days after the effective date of the AD, whichever is later. We have included a 60-day grace period to ensure that any airplane that is close to or has passed the 16,500-total-flight-cycle threshold is not grounded as of the effective date of the AD.

Clarification of Inspection Terminology

In this proposed AD, the “detailed visual inspection” specified in the Airbus service bulletins is referred to as a “detailed inspection.” We have included the definition for a detailed inspection in a note in the proposed AD.

Interim Action

We consider this proposed AD interim action. If final action is later identified, we may consider further rulemaking then.

Costs of Compliance

This proposed AD would affect about 19 Model A330 series airplanes of U.S. registry. The proposed inspection would take about 1 work hour per airplane, per inspection cycle, at an average labor rate of $65 per work hour. Based on these figures, the estimated cost of the proposed AD for U.S. operators is $1,235, or $65 per airplane, per inspection cycle.

There are currently no affected Model A340-200 and -300 series airplanes of U.S. registry. However, if one of these airplanes is imported and put on the U.S. Register in the future, this cost estimate will also apply to those airplanes.

Authority for This Rulemaking

The FAA's authority to issue rules regarding aviation safety is found in Title 49 of the United States Code. Subtitle I Section 106, describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this proposed AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20025; Directorate Identifier 2004-NM-208-AD.

Comments Due Date

(a) The Federal Aviation Administration must receive comments on this AD action by February 11, 2005.

Affected ADs

(b) None.

Applicability

(c) This AD applies to all Airbus Model A330, A340-200, and A340-300 series airplanes, certificated in any category.

Unsafe Condition

(d) This AD was prompted by reports of cracking of a certain bracket that attaches the flight deck instrument panel to the airplane structure. We are issuing this AD to detect and correct a cracked bracket. Failure of this bracket, combined with failure of the horizontal beam, could result in collapse of the left part of the flight deck instrument panel, and consequent reduced controllability of the airplane.

Compliance

(e) You are responsible for having the actions required by this AD performed within the compliance times specified, unless the actions have already been done.

Service Bulletin Reference

(f) The term “service bulletin,” as used in this AD, means the Accomplishment Instructions of Airbus Service Bulletins A330-25-3227 (for Model A330 series airplanes) and A340-25-4230 (for Model A340-200 and -300 series airplanes), both including Appendix 01, and both dated June 17, 2004, as applicable.

Initial Inspection

(g) At the applicable time specified in paragraph (g)(1) or (g)(2) of this AD, perform a detailed inspection of the bracket having part number (P/N) F2511012920000, which attaches the flight deck instrument panel to airplane structure, in accordance with the service bulletin.

(1) For Model A330 series airplanes: Prior to the accumulation of 16,500 total flight cycles, or within 60 days after the effective date of this AD, whichever is later.

(2) For Model A340-200 and -300 series airplanes: Prior to the accumulation of 9,700 total flight cycles, or within 2,700 flight cycles after the effective date of this AD, whichever is later.

Note 1. For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracking/Repetitive Inspections

(h) If no cracking is found during the initial inspection required by paragraph (g) of this AD: Repeat the inspection thereafter at the applicable interval specified in paragraph (h)(1) or (h)(2) of this AD.

(1) For Model A330 series airplanes: Intervals not to exceed 13,800 flight cycles.

(2) For Model A340-200 and -300 series airplanes: Intervals not to exceed 7,000 flight cycles.

Crack Found/Replacement, Reporting, and Repetitive Inspections

(i) If any cracking is found during any inspection required by paragraph (g) or (h) of this AD: Do the actions in paragraphs (i)(1), (i)(2), and (i)(3) of this AD, except as provided by paragraph (j) of this AD.

(1) Before further flight: Replace the cracked bracket with a new, improved bracket having P/N F2511012920095, in accordance with the service bulletin.

(2) Within 30 days after performing the inspection, or within 30 days after the effective date of this AD, whichever is later: Report the cracked fitting to Airbus, Department AI/SE-A21, 1 Round Point Maurice Bellonte, 31707 Blagnac Cedex, France. The report must include the airplane serial number, the number of flight cycles and flight hours on the airplane, the date of the inspection, and whether both flanges of a bracket are broken. Submitting Appendix 01 of the applicable service bulletin is acceptable for compliance with this paragraph. Under the provisions of the Paperwork Reduction Act of 1980 (44 U.S.C. 3501 et seq.), the Office of Management and Budget (OMB) has approved the information collection requirements contained in this AD and has assigned OMB Control Number 2120-0056.

(3) Inspect the replaced bracket at the time specified in paragraph (i)(3)(i) or (i)(3)(ii) of this AD. Then, do repetitive inspections or replace the bracket as specified in paragraph (h) or (i) of this AD, as applicable.

(i) For Model A330 series airplanes: Within 16,500 flight cycles.

(ii) For Model A340-200 and -300 series airplanes: Within 9,700 flight cycles.

(j) If both flanges of a bracket are broken: Before further flight, replace the bracket and perform any applicable related investigative and corrective actions (which may include inspections for damage to surrounding structure caused by the broken bracket, and corrective actions for any damage that is found), in accordance with a method approved by the Manager, International Branch, ANM-116, Transport Airplane Directorate, FAA; or the Direction Generale de l'Aviation Civile (DGAC) (or its delegated agent).

Alternative Methods of Compliance (AMOCs)

(k) The Manager, International Branch, ANM-116, has the authority to approve AMOCs for this AD, if requested in accordance with the procedures found in 14 CFR 39.19.

Related Information

(l) French airworthiness directives F-2004-140 and F-2004-141, both dated August 18, 2004, also address the subject of this AD.

Issued in Renton, Washington, on December 30, 2004.
Kevin M. Mullin,
Acting Manager, Transport Airplane Directorate, Aircraft Certification Service.

[FR Doc. 05-612 Filed 1-11-05; 8:45 am]

BILLING CODE 4910-13-M